DEPARTMENT OF ENERGY

Federal Energy Regulatory Commission

[Docket No. ER97-2517-008, et al.]

XENERGY,Inc., et al.; Electric Rate and Corporate Regulation Filings

May 2, 2000.

Take notice that the following filings have been made with the Commission:

1. XENERGY, Inc.

[Docket No. ER97-2517-008]

Take notice that on April 26, 2000, XENERGY, Inc. (XENERGY), tendered for filing an amendment to its March 3, 2000 notice of status change in connection with the pending merger between Energy East Corporation and Central Maine Power Company (CMP). This amendment involves XENERGY's code of conduct to incorporate CMP as an affiliate.

Comment date: May 17, 2000, in accordance with Standard Paragraph E at the end of this notice.

2. NYSEG Solutions, Inc.

[Docket No. ER99-220-006]

Take notice that on April 26, 2000, NYSEG Solutions, Inc., tendered for filing an amendment to its March 3, 2000 notice of status change in connection with the pending merger between Energy East Corporation and Central Maine Power Company (CMP). This amendment involves NYSEG Solutions, Inc.’s code of conduct to incorporate CMP as an affiliate.

Comment date: May 17, 2000, in accordance with Standard Paragraph E at the end of this notice.

3. New York State Electric & Gas Corporation

[Docket No. ER99-221-003]

Take notice that on April 26, 2000, New York State Electric & Gas Corporation (NYSEG), tendered for filing an amendment to its March 3, 2000 notice of status change in connection with the pending merger between Energy East Corporation and Central Maine Power Company (CMP). This amendment involves NYSEG's code of conduct to incorporate CMP as an affiliate.

Comment date: May 17, 2000, in accordance with Standard Paragraph E at the end of this notice.

4. Mid-Continent Area Power Pool

[Docket No. ER99-2649-002]

Take notice that on April 26, 2000, the Mid-Continent Area Power Pool (MAPP), on behalf of its members that are subject to Commission jurisdiction as public utilities under Section 201(e) of the Federal Power Act, tendered for filing amendments to MAPP's Line Loading Relief procedure incorporating the North American Electric Reliability Council's transmission loading relief procedures for initial curtailments of non-firm transmission service.

Comment date: May 17, 2000, in accordance with Standard Paragraph E at the end of this notice.

5. Energy East South Glens Falls LLC

[Docket No. ER00-262-002]

Take notice that on April 26, 2000, Energy East South Glens Falls LLC (South Glens Falls), tendered for filing an amendment to its March 3, 2000 notice of status change in connection with the pending merger between Energy East Corporation and Central Maine Power Company (CMP). This amendment involves South Glens Falls' code of conduct to incorporate CMP as an affiliate.

Comment date: May 17, 2000, in accordance with Standard Paragraph E at the end of this notice.

6. Wisconsin Energy Corporation Operating Companies

[Docket No. ER00-1319-001]

Take notice that on April 26, 2000, Wisconsin Energy Corporation Operating Companies tendered for filing its compliance filing in accordance with the Commission's March 28, 2000 order in this proceeding, Wisconsin Energy Corporation Operating Companies, 90 FERC ¶ 61,298 (2000).

Copies of the filing have been served on all transmission service customers, the Michigan Public Service Commission and the Public Service Commission of Wisconsin.

Comment date: May 17, 2000, in accordance with Standard Paragraph E at the end of this notice.

7. San Joaquin Cogen Limited

[Docket No. ER00-1517-001]

Take notice that on April 26, 2000, San Joaquin Cogen Limited (San Joaquin), tendered for filing revisions to its market based rate tariff in compliance with the March 29, 2000 Order issued in this proceeding.

Comment date: May 17, 2000, in accordance with Standard Paragraph E at the end of this notice.

8. Central Power and Light Company

[Docket No. ER00-2296-000]

Take notice that on April 25, 2000, Central Power and Light Company (CPL), West Texas Utilities Company (WTU), Public Service Company of Oklahoma and Southwestern Electric Power Company (collectively, the CSW Operating Companies) tendered for filing an Interconnection Agreement between CPL and Gregory Power Partners, L.P. (GPP) and a service agreement under which GPP will take ancillary services pursuant to Parts I and IV of the CSW Operating Companies' open access transmission service tariff.

The CSW Operating Companies request that the Interconnection Agreement and the service agreement be accepted to become effective as of April 26, 2000. Accordingly, the CSW Operating Companies request waiver of the Commission's notice requirements.

CPL states that a copy of the filing was served on GPP and the Public Utility Commission of Texas.

Comment date: May 16, 2000, in accordance with Standard Paragraph E at the end of this notice.

9. New England Power Pool

[Docket No. ER00-2297-000]

Take notice that on April 26, 2000, the New England Power Pool (NEPOOL) Participants Committee tendered for filing changes to Market Rules 1, 4 and 5 and requested expedited consideration of these changes.

The NEPOOL Participants Committee states that copies of these materials were sent to the New England state governors and regulatory commissions and the Participants in the New England Power Pool.

Comment date: May 17, 2000, in accordance with Standard Paragraph E at the end of this notice.

10. Carolina Power & Light Company

[Docket No. ER00-2298-000]

Take notice that on April 26, 2000, Carolina Power & Light Company (CP&L), tendered for filing an executed Service Agreement with Conectiv Energy Supply, Inc., under the provisions of CP&L's Market-Based Rates Tariff, FERC Electric Tariff No. 4.

This Service Agreement supersedes the un-executed Agreement originally filed in Docket No. ER98-3385-000 and approved effective May 18, 1998.

Copies of the filing were served upon the North Carolina Utilities Commission and the South Carolina Public Service Commission.

Comment date: May 17, 2000, in accordance with Standard Paragraph E at the end of this notice.

11. Consumers Energy Company

[Docket No. ER00-2299-000]

Take notice that on April 26, 2000, Consumers Energy Company (CECo), tendered for filing a Wholesale Market Based Rate Tariff and a pro forma Service Agreement.

CECo seeks an effective date of June 1, 2000 for all of the tariff sheets submitted with this filing.

CECo states that its Wholesale Market Based Rate Tariff, and pro forma Service Agreement, are being filed in order to implement a pro forma tariff prepared by a group of representatives from various segments of the electric industry and to facilitate a standardized master power purchase and sale agreement.

CECo states that it does not propose to eliminate either its currently effective market-based Power Sales Tariff accepted for filing effective October 28, 1998 in Docket No. ER98-4421-000, nor its cost-based power sales tariff accepted for filing effective January 1, 1997 in Docket No. ER97-696-000.

Copies of this filing have been sent to the Michigan Public Service Commission.

Comment date: May 17, 2000, in accordance with Standard Paragraph E at the end of this notice.

12. Wayne-White Counties Electric Cooperative

[Docket No. ER00-2300-000]

Take notice that on April 26, 2000, Wayne-White Counties Electric Cooperative (WWCEC), tendered for filing an executed umbrella service agreement under which WWCEC will make market-based power sales under its Market-Based Rate tariff, Rate Schedule FERC No. 1, to Illinois Power.

WWCEC requests an effective date of April 1, 2000, for the umbrella service agreement.

WWCEC states that a copy of the filing has been served on Illinois Power.

Comment date: May 17, 2000, in accordance with Standard Paragraph E at the end of this notice.

13. Southwestern Public Service Company

[Docket No. ER00-2301-000]

Take notice that on April 26, 2000, New Century Services, Inc., on behalf of Southwestern Public Service Company (Southwestern), tendered for filing an executed umbrella service agreement under Southwestern's market-based sales tariff with South Plains Electric Cooperative, Inc., (South Plains). This umbrella service agreement provides for Southwestern's sale and South Plain's purchase of capacity and energy at market-based rates pursuant to Southwestern's market-based sales tariff.

Comment date: May 17, 2000, in accordance with Standard Paragraph E at the end of this notice.

14. Southwestern Public Service Company

[Docket No. ER00-2302-000]

Take notice that on April 26, 2000, New Century Services, Inc., on behalf of Southwestern Public Service Company (Southwestern), tendered for filing an executed umbrella service agreement under Southwestern's market-based sales tariff with West Texas Municipal Power Agency (WTMPA). This umbrella service agreement provides for Southwestern's sale and WTMPA's purchase of capacity and energy at market-based rates pursuant to Southwestern's market-based sales tariff.

Comment date: May 17, 2000, in accordance with Standard Paragraph E at the end of this notice.

15. Central Illinois Light Company

[Docket No. ER00-2303-000]

Take notice that on April 26, 2000, Central Illinois Light Company (CILCO), 300 Liberty Street, Peoria, Illinois 61202, tendered for filing with the Commission a substitute Index of Customers under its Coordination Sales Tariff and one service agreement with one new customer, Statoil Energy Services, Inc.

CILCO requested an effective date of April 17, 2000.

Copies of the filing were served on the affected customer and the Illinois Commerce Commission.

Comment date: May 17, 2000, in accordance with Standard Paragraph E at the end of this notice.

16. Central Illinois Light Company

[Docket No. ER00-2304-000]

Take notice that on April 26, 2000, Central Illinois Light Company (CILCO), 300 Liberty Street, Peoria, Illinois 61202, tendered for filing with the Commission an Index of Customers under its Market Rate Power Sales Tariff and one service agreement with one new customer, Statoil Energy Services, Inc.

CILCO requested an effective date of April 17, 2000.

Copies of the filing were served on the affected customers and the Illinois Commerce Commission.

Comment date: May 17, 2000, in accordance with Standard Paragraph E at the end of this notice.

17. Tampa Electric Company

[Docket No. ER00-2305-000]

Take notice that on April 26, 2000, Tampa Electric Company (Tampa Electric) tendered for filing a service agreement with Seminole Electric Cooperative, Inc. (Seminole) under Tampa Electric's market-based sales tariff. Tampa Electric proposes that the service agreement be made effective on May 15, 2000.

Copies of the filing have been served on Seminole and the Florida Public Service Commission.

Comment date: May 17, 2000, in accordance with Standard Paragraph E at the end of this notice.

18. It's Electric & Gas, L.L.C.

[Docket No. ER00-2306-000]

Take notice that on April 26, 2000, It's Electric & Gas, L.L.C. (It's Electric), petitioned the Commission for acceptance of It's Electric's FERC Rate Schedule No. 1; the granting of certain blanket approvals, including the authority to sell electricity at market-based rates; and waiver of certain Commission regulations.

It's Electric intends to engage in wholesale electric power and energy purchases and sales as a marketer or broker. It's Electric is not in the business of generating or transmitting electric power. It's Electric is a wholly-owned subsidiary of Strine Enterprises.

Comment date: May 17, 2000, in accordance with Standard Paragraph E at the end of this notice.

19. Public Service Company of New Mexico

[Docket No. ER00-2307-000]

Take notice that on April 26, 2000, Public Service Company of New Mexico (PNM), tendered for filing a unilaterally executed service agreement, for electric power and energy sales at negotiated rates under the terms of PNM's Power and Energy Sales Tariff, with the City of Banning (dated April 5, 2000). PNM's filing is available for public inspection at its offices in Albuquerque, New Mexico.

Copies of the filing have been sent to the City of Banning and to the New Mexico Public Regulation Commission.

Comment date: May 17, 2000, in accordance with Standard Paragraph E at the end of this notice.

20. Entergy Services, Inc.

[Docket No. ER00-2308-000]

Take notice that on April 26, 2000, Entergy Services, Inc. (Entergy Services), on behalf of Entergy Arkansas, Inc., Entergy Gulf States, Inc., Entergy Louisiana, Inc., Entergy Mississippi, Inc., and Entergy New Orleans, Inc. (collectively, the Entergy Operating Companies), tendered for filing the Power Coordination and Interchange Agreement (Coordination Agreement) between Entergy Arkansas, Inc., and City Water and Light Plant of the City of Jonesboro, Arkansas.

Comment date: May 17, 2000, in accordance with Standard Paragraph E at the end of this notice.

21. Allegheny Energy Supply Company, L.L.C.; The Potomac Edison Company; West Penn Power Company

[Docket No. ER00-2309-000]

Take notice that on April 26, 2000 Allegheny Energy Supply Company, L.L.C. (AE Supply), The Potomac Edison Company (“Potomac”), and West Penn Power Company (West Penn) (together, Potomac and West Penn are referred to as Allegheny Power), tendered for filing their “First Amended Purchase and Sale Agreement for Ancillary Services between Allegheny Power and Allegheny Energy Supply Company, L.L.C.” The amendment adds Potomac to the Agreement and establishes a default price cap for affiliated energy imbalance sales all as more fully explained in the Application.

Comment date: May 17, 2000, in accordance with Standard Paragraph E at the end of this notice.

22. Metropolitan Edison Company

[Docket No. ER00-2310-000]

Take notice that on April 26, 2000, Metropolitan Edison Company (doing business as GPU Energy), tendered for filing a letter amendment to the Generation Facility Transmission Interconnection Agreement between GPU Energy and AES Ironwood, L.L.C.

Comment date: May 17, 2000, in accordance with Standard Paragraph E at the end of this notice.

23. PJM Interconnection, L.L.C.

[Docket No. ER00-2311-000]

Take notice that on April 26, 2000, PJM Interconnection, L.L.C. (PJM), tendered for filing 7 executed service agreements for network integration transmission service and for point-to-point transmission service under the PJM Open Access Transmission Tariff. These agreements are with Conectiv Energy Supply, Inc., NUI Energy Brokers, Inc. and Southern Company Retail Energy Marketing, L.P.

Copies of this filing were served upon the parties to the service agreements and the state commissions within the PJM control area.

Comment date: May 17, 2000, in accordance with Standard Paragraph E at the end of this notice.

24. Wisconsin Electric Power Company

[Docket No. ER00-2312-000]

Take notice that on April 26, 2000, Wisconsin Electric Power Company (Wisconsin Electric), tendered for filing a revision to its Coordination Sales Tariff (FERC Electric Tariff, First Revised Volume No. 2). The revision to Service Schedule A, B and C clarifies that the cost of Wisconsin Electric's retail interruptible service options to be recovered in the definition of Out of Pocket costs.

Wisconsin Electric respectfully requests an effective date May 1, 2000. Wisconsin Electric requests waiver of the Commission's advance notice requirements.

Copies of the filing have been served on all current customers under the Coordination Sales Tariff, the Michigan Public Service Commission, and the Public Service Commission of Wisconsin.

Comment date: May 17, 2000, in accordance with Standard Paragraph E at the end of this notice.

25. NRG Energy Center Paxton, Inc.

[Docket No. ER00-2313-000]

Take notice that on April 26, 2000, NRG Energy Center Paxton, Inc. (Seller), a corporation organized under the laws of the State of Delaware, petitioned the Commission for an order: (1) Accepting Seller's proposed FERC Electric Tariff (Market-Based Rate Tariff); (2) granting waiver of certain requirements under Subparts B and C of Part 35 of the regulations, and (3) granting the blanket approvals normally accorded sellers permitted to sell at market-based rates. Seller is an indirect wholly-owned subsidiary of NRG Energy, Inc.

Comment date: May 17, 2000, in accordance with Standard Paragraph E at the end of this notice.

26. NRG Power Marketing, Inc.

[Docket No. ER00-2314-000]

Take notice that on April 26, 2000, NRG Power Marketing, Inc., tendered for filing a letter from the Executive Committee of the Western Systems Power Pool (WSPP), indicating that NRG Power Marketing, Inc., had completed all the steps for pool membership. NRG Power Marketing, Inc., requests that the Commission amend the WSPP Agreement to include it as a member.

NRG Power Marketing, Inc., requests an effective date of April 25, 2000 for the proposed amendment. Accordingly, NRG Power Marketing, Inc., requests waiver of the Commission's notice requirements for good cause shown.

Copies of the filing were served upon the WSPP Executive Committee.

Comment date: May 17, 2000, in accordance with Standard Paragraph E at the end of this notice.

27. Duquesne Light Company; Orion Power MidWest, L.P.

[Docket No. ER00-2315-000]

Take notice that on April 26, 2000, Duquesne Light Company and Orion Power MidWest, L.P., tendered for filing under Section 205 of the Federal Power Act a reactive supply and voltage control service agreement. The agreement is a result of the purchase of Duquesne's generation facilities by Orion Power MidWest, previously approved by the Commission, and Orion Power MidWest's resulting ownership of baseload generating units within Duquesne's control area.

A copy of the filing was served upon the Pennsylvania Public Utility Commission.

Comment date: May 17, 2000, in accordance with Standard Paragraph E at the end of this notice.

28. Entergy Services, Inc.

[Docket Nos. ER99-3084-003; ER99-3093-003; ER99-3133-003; ER99-3175-003; ER99-3176-003; ER99-3188-003; ER99-3252-003; ER99-3315-003; ER99-3960-002]

Take notice that on April 26, 2000, Entergy Services, Inc. (Entergy), on behalf of Entergy Arkansas, Inc., Entergy Gulf States, Inc., Entergy Louisiana, Inc., Entergy Mississippi, Inc., and Entergy New Orleans, Inc. (collectively, the Entergy Operating Companies), tendered for filing a compliance filing in accordance with the Commission's March 17 order in Entergy Services, Inc., 90 FERC ¶ 61,272 (2000), directing that Entergy submit a compliance refund report.

Comment date: May 17, 2000, in accordance with Standard Paragraph E at the end of this notice.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

David P. Boergers,
Secretary.

[FR Doc. 00-11347 Filed 5-5-00; 8:45 am]

BILLING CODE 6717-01-P